COUNCIL ON ENVIRONMENTAL QUALITY

Instructions for Implementing Efficient Federal Operations Executive Order (E.O.) 13834

AGENCY: Council on Environmental Quality.

ACTION: Notice of Availability of Instructions for Implementing Efficient Federal Operations Executive Order (E.O.) 13834.

SUMMARY: The Chairman of the Council on Environmental Quality (CEQ) has issued instructions to Federal agencies for meeting energy and environmental performance requirements in a manner that increases efficiency, optimizes performance, eliminates unnecessary use of resources, and protects the environment, as required under Executive Order (E.O.) 13834, “Efficient Federal Operations,” signed by President Trump on May 17, 2018. The purpose of the Executive Order is to direct agencies on the management of Federal facilities, vehicles, and operations to achieve statutory requirements, while prioritizing actions to reduce waste, cut costs, and enhance resilience of Federal infrastructure and operations for effective accomplishment of agency missions.

DATES: The Implementing Instructions for E.O. 13834, Efficient Federal Operations were issued on April 30, 2019.

ADDRESSES: The Implementing Instructions for E.O. 13834, Efficient Federal Operations are available at: https://www.sustainability.gov/resources.html.

FOR FURTHER INFORMATION CONTACT: Dee Siegel, Office of Federal Sustainability, Council on Environmental Quality, at dsiegel@ceq.eop.gov or (202) 395-5750.

SUPPLEMENTARY INFORMATION: Section 3(d) of E.O. 13834, “Efficient Federal Operations,” directs the Chairman of CEQ to issue implementing instructions. 83 FR 23771. The instructions apply only to Federal agencies, operations, and programs. Agencies are expected to implement the instructions as part of their compliance with E.O. 13834.

(Authority: E.O. 13834, 83 FR 23771)

Dated: April 30, 2019.
Mary B. Neumayr,
Chairman, Council on Environmental Quality.

[FR Doc. 2019-09126 Filed 5-2-19; 8:45 am]

BILLING CODE 3225-F9-P